SECURITIES AND EXCHANGE COMMISSION

[Release No. 34-67719; File No. SR-NYSEMKT-2012-40]

Self-Regulatory Organizations; NYSE MKT LLC; Notice of Filing and Immediate Effectiveness of Proposed Rule Change Proposing To Offer Certain Proprietary Options Data Products

August 23, 2012

Correction

In notice document 2012-21385, appearing on pages 52767-52769 in the issue of Thursday, August 30, 2012, make the following correction:

On page 52767, in the second column, the Release No. and File No., which were inadvertently omitted from the document heading, are added to read as set forth above.

[FR Doc. C1-2012-21385 Filed 9-12-12; 8:45 am]

BILLING CODE 1505-01-D